DEPARTMENT OF HEALTH AND HUMAN SERVICES

Health IT Standards Committee; Call for Nominations

AGENCY: Office of the National Coordinator for Health Information Technology, HHS.

ACTION: Call for nominations.

SUMMARY: The Office of the National Coordinator for Health Information Technology (ONC) is seeking nominations to the Health Information Technology Standards Committee (HITSC) to fill expiring terms of ten (10) current members.

Name of Committee: Health IT Standards Committee.

General Function of the Committee: The HITSC is charged with making recommendations to the National Coordinator on standards, implementation specifications, and certification criteria for the electronic exchange and use of health information for purposes of adoption, consistent with the implementation of the Federal Health IT Strategic Plan, and in accordance with policies developed by the Health IT Policy Committee.

Date and Time: Nominations must be received by 12:00 p.m. on Friday, March 6, 2015.

Contact Person: Michelle Consolazio, phone: 781-710-0786, email: michelle.consolazio@hhs.gov.

Background: The Health IT Standards Committee was established under the American Recovery and Reinvestment Act 2009 (ARRA) (Pub. L. 111-5), section 13101, new Section 3003. Members of the Health IT Standards Committee are appointed by the Secretary, HHS and shall at least reflect providers, ancillary healthcare workers, consumers, purchasers, health plans, technology vendors, researchers, relevant Federal agencies, and individuals with technical expertise on health care quality, privacy and security, and on the electronic exchange and use of health information. Nominees of the HITSC should have experience promoting the meaningful use of health information technology and be knowledgeable in areas such as: small innovative health care providers, providers participating in payment reform initiatives, accountable care organizations, pharmacists, behavioral health professionals, home health care, purchaser or employer representatives, patient safety, health information technology security, big data, consumer e-health, personal health records, and mobile health.

Members will be selected to achieve a balanced representation of viewpoints, areas of experience, subject matter expertise, and representation across the health care system. Terms will be three (3) years from the appointment date. Members of the Committee serve without pay; however, members will be provided per diem and travel costs for Committee services.

The HITSC is seeking applicants with the following areas of expertise:

• Ancillary Healthcare Worker (e.g., rural representative, underserved representative, telehealth representative, behavioral health, and nursing informatics)

• Consumer/Patient Representative

• Health Plans Representative

• Provider Representative (2)

• Research Representative

• Technical Expertise, Health Exchange

• Technical Expertise, Long-Term Care

• Technical Expertise, Privacy

• Technology Vendor

For more information about the HITSC please visit: http://healthit.gov/facas/health-it-standards-committee

Submitting Nominations: Nominations should be submitted electronically through the application database at: http://healthit.gov/facas/faca-workgroup-membership-application . All nominations must be compiled and submitted in one complete package. A nomination package must include: A short bio, a current CV including contact information and memberships with professional organizations/advisory committees, and two letters of support.

Dated: February 4, 2015.
Michelle Consolazio,
FACA Program Lead, Office of Policy, Office of the National Coordinator for Health Information Technology.

[FR Doc. 2015-02885 Filed 2-11-15; 8:45 am]

BILLING CODE 4150-45-P